DEPARTMENT OF AGRICULTURE

National Agricultural Library

Notice of Intent To Seek Approval To Collect Information

AGENCY: National Agricultural Library, Agricultural Research Service, United States Department of Agriculture.

ACTION: Notice and Request for comments.

SUMMARY: In accordance with the Paperwork Reduction Act of 1995 (Pub. L. 104-13) and Office of Management and Budget (OMB) regulations at 5 CFR part 1320 (60 FR 44978, August 29, 1995), this notice announces the National Agricultural Library's (NAL) intent to request approval to collect information via an online form. This voluntary form will be used by Supplemental Nutrition Assistance Program Education (SNAP-Ed) personnel, consumers from the general public, school nutrition personnel, the private sector, the Department of Agriculture (USDA) Food program operators, and federal and state agency nutrition programs to submit recipes and review recipes. These two voluntary forms give people and program personnel the opportunity to share recipes that they have developed and review recipes that have been submitted.

DATES: Comments on this notice must be received by July 14, 2014 to be assured of consideration.

ADDRESSES: Address all comments concerning this notice to Jennifer Anderson, Acting Team Leader, Food and Nutrition Information Center, National Agricultural Library, 10301 Baltimore Avenue, Beltsville, Maryland 20705-2351, telephone (301) 504-6321, or fax (301) 504-6409. Submit electronic comments to jennifer.anderson@ars.usda.gov.

SUPPLEMENTARY INFORMATION: Title: SNAP-Ed Connection Recipe Submission and Review Form.

OMB Number: PRA# 0518-0043.

Expiration Date: 3 years from date of approval.

Type of Request: Renewal of existing data collection from SNAP-Ed personnel, consumers from the general public, school nutrition personnel, USDA Foods program operators, federal and state agency nutrition programs, and the private sector.

Abstract: The NAL's SNAP-Ed Connection (formerly the Food Stamp Nutrition Connection) http://snap.nal.usda.gov contains an on-line recipe database called the Recipe Finder. The purpose of the Recipe Finder database was to provide SNAP-Ed providers with low-cost, healthy recipes for SNAP Nutrition Education purposes. The recipe database is now being combined with recipes from other USDA Food and Nutrition Service programs such as the Food Distribution Programs (FDP) (Food Distribution on Indian Reservations, Commodity Supplemental Food Program, and The Emergency Food Assistance Program), Child Nutrition Programs (CNP), and the Center for Nutrition Policy and Promotion (CNPP). The database will be located on the USDA Food, Nutrition and Consumer Services Web site and will be called What's Cooking? USDA Mixing Bowl. The unified database will provide a central location for recipe users to search for healthy recipes that support the Dietary Guidelines for Americans. The recipes will benefit consumers, SNAP-Ed personnel, State Agency staff, school nutrition personnel, and the private sector.

Staff from SNAP-Ed Connection, CNPP, FDP, and CNP review the data collected from the voluntary Recipe Finder Submission Form. Staff uses the form to determine whether a recipe is eligible for inclusion in the database. The criteria for recipe inclusion vary by program area.

The Recipe Finder Submission Form allows SNAP-Ed personnel, consumers from the general public, school nutrition personnel, USDA Foods program operators, federal and state agency nutrition programs, and the private sector to submit recipes on-line, making the submission process efficient.

Data collected from the Recipe Review Form allows recipe users to provide feedback about the recipe that may help future users. In the past, SNAP-Ed personnel provided feedback about using recipes in an educational setting, which was helpful to other nutrition educators. Now many types of respondents will be able to leave comments.

Estimate of Burden for Recipe Submission Form: Public reporting burden for this collection of information is estimated to average 15 minutes per response.

Respondents: SNAP-Ed personnel, consumers from the general public, school nutrition personnel, the private sector, USDA Foods program operators, and federal and state agency nutrition programs.

Estimated Number of Respondents: 550 per year.

Estimated Total Annual Burden on Respondents: 891 hours.

Estimate of Burden for Recipe Review Form: Public reporting burden for this collection of information is estimated to average 6 minutes per response.

Respondents: SNAP-Ed personnel, consumers from the general public, school nutrition personnel, the private sector, USDA Foods program operators, and federal and state agency nutrition programs.

Estimated Number of Respondents: 3,120 per year.

Estimated Total Annual Burden on Respondents: 376 hours.

Comments: Comments are invited on (a) whether the proposed collection of information is necessary for the proper performance of Agency functions, including whether the information will have practical utility; (b) the accuracy of the Agency's estimate of the burden of the proposed collection of information, including the validity of the methodology, and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for OMB approval. All comments will become a matter of public record.

Dated: May 6, 2014.
Laurence D. Chandler,
Acting Associate Administrator, Agricultural Research Service.

[FR Doc. 2014-11197 Filed 5-14-14; 8:45 am]

BILLING CODE 3410-03-P